DEPARTMENT OF ENERGY

Federal Energy Regulatory Commission

[Docket No. ER13-2124-000]

Midcontinent Independent System Operator, Inc.; Notice of Technical Conference

By order dated October 16, 2013, in Docket No. ER13-2124-000, the Federal Energy Regulatory Commission (Commission) directed staff to convene a technical conference regarding a proposal by Midcontinent Independent System Operator, Inc. (MISO) to modify the allocation of real-time Revenue Sufficiency Guarantee (RSG) costs.¹ In its order, the Commission accepted and suspended for five months MISO's filing, subject to the outcome of the technical conference and further Commission order.

¹ Midcontinent Indep. Sys. Operator, Inc., 145 FERC ¶ 61,044 (2013).

Take notice that such conference will be held on November 19, 2013, at the Commission's headquarters at 888 First Street NE., Washington, DC 20426, beginning at 9:00 a.m. (Eastern Time) in Hearing Room 6. The technical conference will be led by Commission staff.

The purpose of the technical conference is to discuss the issues raised by MISO's proposed revisions to its real-time RSG cost allocation methodology. A subsequent notice detailing the topics to be discussed will be issued in advance of the conference. Following the conference, the parties will have an opportunity to file written comments that will be included in the formal record of the proceeding, which, together with the record developed to date, will form the basis for further Commission action.

FERC conferences are accessible under section 508 of the Rehabilitation Act of 1973. For accessibility accommodations please send an email to accessibility@ferc.gov or call toll free 1-866-208-3372 (voice) or 202-208-8659 (TTY); or send a fax to 202-208-2106 with the required accommodations.

All parties are permitted to attend. For more information on this conference, please contact Cristie DeVoss at cristie.devoss@ferc.gov or 202-502-8441, or Melissa Nimit at melissa.nimit@ferc.gov or 202-502-6638.

Dated: October 25, 2013.
Kimberly D. Bose,
Secretary.

[FR Doc. 2013-26028 Filed 10-31-13; 8:45 am]

BILLING CODE 6717-01-P